DEPARTMENT OF DEFENSE

Department of the Navy

Notice of Intent To Grant Exclusive Patent License; Lumitox Gulf L.C.

AGENCY: Department of the Navy, DOD.

ACTION: Notice.

SUMMARY: The Department of the Navy hereby gives notice of its intent to grant to Lumitox Gulf L.C. a revocable, nonassignable, exclusive license to practice in the United States and certain foreign countries, the Government-owned inventions described in U.S. Patent No. 5,130,251 issued July 14, 1992, entitled “Stress-resistant Bioluminescent Dinoflagellates”, and U.S. Patent No. 5,192,667 issued March 9, 1993, entitled “Method for Evaluating Anti-fouling Paints” in the fields of environmental monitoring for testing for toxicity, medicine for testing chemicals used to treat medical patients and homeland security for testing for the presence of toxic substances in response to the threat of terrorism and U.S. Patent 5,143,545 issued September 1, 1992, entitled “Antifouling Marine Coatings” in the field of protection of iron and steel structures in marine environments.

DATES: Anyone wishing to object to the grant of this license must file written objections along with supporting evidence, if any, not later than April 26, 2004.

ADDRESSES: Written objections are to be filed with the Naval Research Laboratory, Code 1004, 4555 Overlook Avenue, SW., Washington, DC 20375-5320.

FOR FURTHER INFORMATION CONTACT: Jane F. Kuhl, Technology Transfer Office, NRL Code 1004, 4555 Overlook Avenue, SW., Washington, DC 20375-5320, telephone (202) 767-7230. Due to U.S. Postal delays, please fax (202) 404-7920, E-mail: kuhl@nrl.navy.mil or use courier delivery to expedite response.

(Authority: 35 U.S.C. 207, 37 CFR part 404.)

Dated: April 2, 2004.
S.A. Hughes,
Lieutenant Commander, Judge Advocate General's Corps, U.S. Navy, Federal Register Liaison Officer.

[FR Doc. 04-8057 Filed 4-8-04; 8:45 am]

BILLING CODE 3810-FF-P